DEPARTMENT OF TRANSPORTATION

Federal Railroad Administration

[Docket No. FRA-2010-005-N-5]

Railroad Safety Technology Grant Program

AGENCY: Federal Railroad Administration, Department of Transportation.

ACTION: Notice of Funds Availability, Railroad Safety Technology Program-Correction of Grant Application Guidance Number.

SUMMARY: The reference number is incorrect for the Notice of Funds Availability, Solicitation of Applications, published in the Federal Register (Volume 75, Number 59; March 29, 2010) for the Railroad Safety Technology Program, in the section, “Requirements and Conditions for Grant Applications.” The grant application guidance can be found at http://grants.gov, under funding opportunity RS-TEC-10-001.

Issued in Washington, DC, on April 12, 2010.
Jo Strang,
Associate Administrator for Railroad Safety/Chief Safety Officer.

[FR Doc. 2010-8728 Filed 4-15-10; 8:45 am]

BILLING CODE 4910-06-P